DEPARTMENT OF ENERGY

Federal Energy Regulatory Commission

[Project No. 3071-008]

Blue Earth County; Notice of Intent To Prepare an Environmental Assessment

September 30, 2025.

On March 18, 2025,¹ and supplemented on April 24, 2025, Blue Earth County, Minnesota (exemptee) filed an application for surrender of the project exemption for the Rapidan Dam Hydroelectric Project No. 3071. The project is located on the Blue Earth River in Blue Earth County, Minnesota. The project does not occupy federal lands.

¹ The March 18, 2025 filing supersedes the exemptee's original surrender application filed on April 14, 2023.

Blue Earth County proposes to surrender its project exemption and decommission the project by removing all project features including the dam and powerhouse. In June 2024, major flooding caused significant damage to project features including but not limited to the project dam's west abutment which resulted in the draining of the project reservoir. Blue Earth County has been working with federal and state resource agencies since that time on its decommissioning proposal. Along with removal of the dam and other project features, Blue Earth County proposes to reestablish the river channel and restore the left and right riverbanks in the area of the dam. On April 2, 2025, the Commission issued a public notice for the proposed surrender, accepted the application for filing, and solicited comments, motions to intervene, and protests.

This notice identifies Commission staff's intention to prepare an environmental assessment (EA) under the National Environmental Policy Act (42 U.S.C. 4321 et seq) for the project.² Commission staff plans to issue an EA by April 1, 2026. Revisions to the schedule may be made as appropriate. The EA will be issued for a 30-day comment period. All comments filed on the EA will be reviewed by staff and considered in the Commission's final decision on the proceeding.

² The unique identification number for documents relating to this environmental review is EAXX-019-20-000-1758885949.

The Commission's Office of Public Participation (OPP) supports meaningful public engagement and participation in Commission proceedings. OPP can help members of the public, including landowners, community organizations, Tribal members, and others to access publicly available information and navigate Commission processes. For public inquiries and assistance with making filings such as interventions, comments, or requests for rehearing, the public is encouraged to contact OPP at (202) 502-6595 or OPP@ferc.gov.

Any questions regarding this notice may be directed to Diana Shannon at 202-502-6136 or diana.shannon@ferc.gov.

Debbie-Anne A. Reese,
Secretary.

[FR Doc. 2025-20618 Filed 11-20-25; 8:45 am]

BILLING CODE 6717-01-P